DEPARTMENT OF TRANSPORTATION

National Highway Traffic Safety Administration

[Docket No. NHTSA-2012-0050]

National Emergency Medical Services Advisory Council (NEMSAC); Notice of Federal Advisory Committee Meeting

AGENCY: National Highway Traffic Safety Administration (NHTSA), U.S. Department of Transportation (DOT).

ACTION: Meeting notice—National Emergency Medical Services Advisory Council.

SUMMARY: The NHTSA announces a meeting of NEMSAC to be held in the Metropolitan Washington, DC area. This notice announces the date, time, and location of the meeting, which will be open to the public. The purpose of NEMSAC is to provide a nationally recognized council of emergency medical services representatives and consumers to provide advice and recommendations regarding Emergency Medical Services (EMS) to DOT's NHTSA.

DATES: The meeting will be held on May 30, 2012, from 10 a.m. to 5 p.m. EDT, and on May 31, 2012, from 8 a.m. to 12 p.m. EDT. A public comment period will take place on May 30, 2012 between 3:30 p.m. and 4:30 p.m. EDT. Written comments must be received by May 25, 2012.

ADDRESSES: The meeting will be held on the 8th floor of the FHI 360 Conference Center at 1825 Connecticut Avenue NW., Washington, DC 20009.

FOR FURTHER INFORMATION CONTACT: Drew Dawson, Director, U.S. Department of Transportation, Office of Emergency Medical Services, 1200 New Jersey Avenue SE., NTI-140, Washington, DC 20590, telephone number 202-366-9966; email Drew.Dawson@dot.gov.

SUPPLEMENTARY INFORMATION: Notice of this meeting is given under the Federal Advisory Committee Act, Public Law 92-463, as amended (5 U.S.C. App.). The NEMSAC will meet on Wednesday and Thursday, May 30-31, 2012, on the 8th floor of the FHI 360 Conference Center at 1825 Connecticut Avenue NW., Washington, DC 20009.

Tentative Agenda of National EMS Advisory Council Meeting, May 30-31, 2012

The tentative agenda includes the following:

Wednesday, May 30, 2012 (10 a.m. to 5 p.m. EDT)

(1) Opening Remarks

(2) Introduction of Members and All in Attendance

(3) Review and Approval of Minutes of Last Meeting

(4) Update From NHTSA Office of EMS

(5) Federal Partner Update

(6) Review of the NEMSAC Roundtable on the EMS Education Agenda for the Future Meeting Results

(7) Public Comment Period (3:30 p.m. to 4:30 p.m. EDT)

(8) Business of the Council

Thursday, May 31, 2012 (8 a.m. to 12 p.m. EDT)

(1) Presentations from NEMSAC Committees

(2) Deliberations of Committee Documents

(3) Voting To Finalize Several NEMSAC Advisories and Recommendations

(4) Unfinished Business/Continued Discussion From Previous Day

(5) Next Steps and Adjourn

Public Attendance: This meeting will be open to the public. There will not be a teleconference option for this meeting. Individuals wishing to attend must register online at www.regonline.com/NEMSAC1 no later than May 25, 2012.

Public Comment: Members of the public who wish to make comments on Wednesday, May 30, 2012, between 3:30 p.m. and 4:30 p.m. EDT are requested to register in advance. In order to allow as many people as possible to speak, speakers are requested to limit their remarks to 5 minutes. Written comments from members of the public will be distributed to NEMSAC members at the meeting and should reach the NHTSA Office of EMS by May 25, 2012. All submissions received may be submitted by either one of the following methods: (1) You may submit comments by email: nemsac@dot.gov, or (2) you may submit comments by fax: 202-366-7149.

A final agenda as well as meeting materials will be available to the public online through www.ems.gov prior to May 30, 2012.

Issued on: May 4, 2012.
Jeffrey P. Michael,
Associate Administrator for Research and Program Development.

[FR Doc. 2012-11144 Filed 5-8-12; 8:45 am]

BILLING CODE 4910-59-P